DEPARTMENT OF TRANSPORTATION

Federal Aviation Administration

14 CFR Part 97

[Docket No. 30421; Amdt. No. 3103 ]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: This rule is effective August 23, 2004. The compliance date for each SIAP is specified in the amendatory provisions.

The incorporation by reference of certain publications listed in the regulations is approved by the Director of the Federal Register as of August 23, 2004.

ADDRESSES: Availability of matters incorporated by reference in the amendment is as follows:

For Examination—

1. FAA Rules Docket, FAA Headquarters Building, 800 Independence Avenue, SW., Washington, DC 20591;

2. The FAA Regional Office of the region in which the affected airport is located;

3. The Flight Inspection Area Office which originated the SIAP; or,

4. The National Archives and Records Administration (NARA). For information on the availability of this material at NARA, call 202-741-6030, or go to: http://www.archives.gov/federal_register/code_of_federal_regulations/ibr_locations.html.

For Purchase—Individual SIAP copies may be obtained from:

1. FAA Public Inquiry Center (APA-200), FAA Headquarters Building, 800 Independence Avenue, SW., Washington, DC 20591; or

2. The FAA Regional Office of the region in which the affected airport is located.

By Subscription—Copies of all SIAPs, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd., Oklahoma City, OK. 73169 (Mail Address: P.O. Box 25082 Oklahoma City, OK 73125) telephone: (405) 954-4164.

SUPPLEMENTARY INFORMATION: This amendment to part 97 of the Federal Aviation Regulations (14 CFR part 97) establishes, amends, suspends, or revokes Standard Instrument Approach Procedures (SIAPs). The complete regulatory description of each SIAP is contained in official FAA form documents which are incorporated by reference in this amendment under 5 U.S.C. 552(a), 1 CFR part 51, and § 97.20 of the Federal Aviation Regulations (FAR). The applicable FAA Forms are identified as FAA Forms 8260-3, 8260-4, and 8260-5. Materials incorporated by reference are available for examination or purchase as stated above.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 is effective upon publication of each separate SIAP as contained in the transmittal. Some SIAP amendments may have been previously issued by the FAA in a National Flight Data Center (NFDC) Notice to Airmen (NOTAM) as an emergency action of immediate flight safety relating directly to published aeronautical charts. The circumstances which created the need for some SIAP amendments may require making them effective in less than 30 days. For the remaining SIAPs, an effective date at least 30 days after publication is provided.

Further, the SIAPs contained in this amendment are based on the criteria contained in the U.S. Standard for Terminal Instrument Procedures (TERPS). In developing these SIAPs, the TERPS criteria were applied to the conditions existing or anticipated at the affected airports. Because of the close and immediate relationship between these SIAPs and safety in air commerce, I find that notice and public procedure before adopting these SIAPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC on August 13, 2004.
James J. Ballough,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

* * * Effective September 30, 2004

Huntsville, AL, Huntsville Intl-Carl T. Jones Field, VOR-A, Amdt 12

Huntsville, AL, Huntsville Intl-Carl T. Jones Field, NDB RWY 18R, Amdt 13A

Huntsville, AL, Huntsville Intl-Carl T. Jones Field, ILS OR LOC RWY 36L, Amdt 9

Huntsville, AL, Huntsville Intl-Carl T. Jones Field, ILS OR LOC RWY 36R, Amdt 1

Huntsville, AL, Huntsville Intl-Carl T. Jones Field, RADAR-1, Amdt 9

Huntsville, AL, Huntsville Intl-Carl T. Jones Field, RNAV (GPS) Z RWY 36L, Orig

Huntsville, AL, Huntsville Intl-Carl T. Jones Field, RNAV (GPS) Z RWY 36R, Orig

Huntsville, AL, Huntsville Intl-Carl T. Jones Field, RNAV (GPS) Y RWY 36R, Orig

Huntsville, AL, Huntsville Intl-Carl T. Jones Field, RNAV (GPS) RWY 18R, Orig

Huntsville, AL, Huntsville Intl-Carl T. Jones Field, RNAV (GPS) Y RWY 36L, Orig

Huntsville, AL, Huntsville Intl-Carl T. Jones Field, ILS OR LOC RWY 18L, Amdt 3

Huntsville, AL, Huntsville Intl-Carl T. Jones Field, ILS OR LOC RWY 18R, Amdt 23, ILS RWY 18R (CAT II), ILS RWY 18R (CAT III), Amdt 23

Melbourne, FL, Melbourne Intl, RNAV (GPS) RWY 9L, Orig

Melbourne, FL, Melbourne Intl, RNAV (GPS) RWY 9R, Orig

Melbourne, FL, Melbourne Intl, RNAV (GPS) RWY 27L, Orig

Melbourne, FL, Melbourne Intl, RNAV (GPS) RWY 27R, Orig

Melbourne, FL, Melbourne Intl, VOR RWY 9R, Amdt 20

Melbourne, FL, Melbourne Intl, VOR RWY 27L, Amdt 12

Melbourne, FL, Melbourne Intl, NDB RWY 9R, Amdt 15

Melbourne, FL, Melbourne Intl, GPS RWY 9L, Orig-D, CANCELLED

Melbourne, FL, Melbourne Intl, GPS RWY 27R, Orig-B, CANCELLED

Greensboro, GA, Greene County Regional, RNAV (GPS) RWY 6, Orig

Greensboro, GA, Greene County Regional, RNAV (GPS) RWY 24, Orig

Greensboro, GA, Greene County Regional, VOR/DME-B, Amdt 1

Greensboro, GA, Greene County Regional, NDB RWY 24, Amdt 1

Greensboro, GA, Greene County Regional, LOC RWY 24, Amdt 2

Greensboro, GA, Greene County Regional, GPS RWY 24, Orig-A, CANCELLED

Greensboro, GA, Greene County Regional, GPS RWY 6, Orig-A, CANCELLED

St. Marys, GA, St Marys, RADAR-1, Amdt 2

Caribou, ME, Caribou Muni, VOR-A, Amdt 11

Caribou, ME, Caribou Muni, RNAV (GPS) RWY 19, Orig

Caribou, ME, Caribou Muni, GPS RWY 19, Orig, CANCELLED

Las Vegas, NV, McCarran Intl, ILS OR LOC RWY 25R, Amdt 16H

Rochester, NY, Greater Rochester Intl, VOR RWY 4, Amdt 10

Clayton, NM, Clayton Muni Arpk, NDB RWY 2, Amdt 1

Clayton, NM, Clayton Muni Arpk, NDB RWY 20, Amdt 1

Jackson, OH, James A. Rhodes, VOR/DME-A, Amdt 2

Jackson, OH, James A. Rhodes, RNAV (GPS) RWY 1, Amdt 1

Jackson, OH, James A. Rhodes, RNAV (GPS) RWY 19, Amdt 1

Urbana, OH, Grimes Field, VOR-A, Amdt 5C

Urbana, OH, Grimes Field, RNAV (GPS) RWY 2, Orig

Urbana, OH, Grimes Field, RNAV (GPS) RWY 20, Orig

Franklin, PA, Venango Regional, VOR RWY 3, Amdt 4

Franklin, PA, Venango Regional, VOR RWY 21, Amdt 7

Franklin, PA, Venango Regional, ILS OR LOC RWY 21, Amdt 5

Franklin, PA, Venango Regional, RNAV (GPS) RWY 3, Orig

Franklin, PA, Venango Regional, RNAV (GPS) RWY 21, Orig

Gainesville, TX, Gainesville Muni, RNAV (GPS) RWY 17, Orig-A

Leesburg, VA, Leesburg Executive, RNAV (GPS) RWY 17, Amdt 1

Stafford, VA, Stafford Regional, RNAV (GPS) RWY 33, Amdt 1

* * * Effective October 28, 2004

Gwinner, ND, Gwinner-Roger Melroe Field, NDB RWY 34, Amdt 1

Gwinner, ND, Gwinner-Roger Melroe Field, RNAV (GPS) RWY 16, Orig

Gwinner, ND, Gwinner-Roger Melroe Field, RNAV (GPS) RWY 34, Orig

* * * Effective November 25, 2004

Greencastle, IN, Putnam County, NDB RWY 18, Amdt 1

[FR Doc. 04-19160 Filed 8-20-04; 8:45 am]

BILLING CODE 4910-13-P